DEPARTMENT OF LABOR

Employment and Training Administration

[TA-W-71,304]

Hitachi Cable Indiana-Kentucky Plant; Russell Springs, KY; Notice of Termination of Investigation

Pursuant to Section 221 of the Trade Act of 1974, as amended, an investigation was initiated on June 19, 2009 in response to a worker-filed petition filed on behalf of workers and former workers at Hitachi Cable Indiana-Kentucky Plant, Russell Springs, Kentucky.

The petition for Trade Adjustment Assistance (TAA) indicates that the subject worker group consists of workers producing “automotive fluid movement components and assemblies (brake and power steering assemblies” at “223 Progress Drive, Russell Springs, Kentucky.”

The worker group is covered by a current TAA certification, TA-W-70,753 (issued June 30, 2009). Consequently, this investigation has been terminated.

Signed in Washington, DC, this 27th day of July 2009.
Richard Church,
Certifying Officer, Division of Trade Adjustment Assistance.

[FR Doc. E9-20459 Filed 8-24-09; 8:45 am]

BILLING CODE 4510-FN-P